DEPARTMENT OF TRANSPORTATION

Federal Aviation Administration

14 CFR Part 25

[Docket No. FAA-2022-0349; Notice No. 25-22-05-SC]

Special Conditions: Airbus Model A321neo XLR Airplane; Flight-Envelope Protection Functions—General

AGENCY: Federal Aviation Administration (FAA), DOT.

ACTION: Notice of proposed special conditions.

SUMMARY: This action proposes special conditions for the the Airbus Model A321neo XLR airplanes. These airplanes will have a novel or unusual design feature when compared to the state of technology envisioned in the airworthiness standards for transport-category airplanes. This design feature is an electronic flight-control system that provides flight-envelope protections. The applicable airworthiness regulations do not contain adequate or appropriate safety standards for this design feature. These proposed special conditions contain the additional safety standards that the Administrator considers necessary to establish a level of safety equivalent to that established by the existing airworthiness standards.

DATES: Send comments on or before January 3, 2023.

ADDRESSES: Send comments identified by Docket No. FAA-2022-0349 using any of the following methods:

• Federal eRegulations Portal: Go to https://www.regulations.gov/ and follow the online instructions for sending your comments electronically.

• Mail: Send comments to Docket Operations, M-30, U.S. Department of Transportation (DOT), 1200 New Jersey Avenue SE, Room W12-140, West Building Ground Floor, Washington, DC, 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: Except for Confidential Business Information (CBI) as described in the following paragraph, and other information as described in title 14, Code of Federal Regulations (14 CFR) 11.35, the FAA will post all comments received without change to https://www.regulations.gov/, including any personal information you provide. The FAA will also post a report summarizing each substantive verbal contact received about these special conditions.

Confidential Business Information: Confidential Business Information (CBI) is commercial or financial information that is both customarily and actually treated as private by its owner. Under the Freedom of Information Act (FOIA) (5 U.S.C. 552), CBI is exempt from public disclosure. If your comments responsive to these special conditions contain commercial or financial information that is customarily treated as private, that you actually treat as private, and that is relevant or responsive to these special conditions, it is important that you clearly designate the submitted comments as CBI. Please mark each page of your submission containing CBI as “PROPIN.” The FAA will treat such marked submissions as confidential under the FOIA, and the indicated comments will not be placed in the public docket of these special conditions. Send submissions containing CBI to Troy Brown, Performance and Environment Section, AIR-625, Technical Innovation Policy Branch, Policy and Innovation Division, Aircraft Certification Service, Federal Aviation Administration, 1801 S. Airport Rd., Wichita, KS 67209-2190; telephone and fax 405-666-1050; email troy.a.brown@faa.gov. Comments the FAA receives, which are not specifically designated as CBI, will be placed in the public docket for these special conditions.

Docket: Background documents or comments received may be read at https://www.regulations.gov/ at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Troy Brown, Performance and Environment Section, AIR-625, Technical Innovation Policy Branch, Policy and Innovation Division, Aircraft Certification Service, Federal Aviation Administration, 1801 S. Airport Rd., Wichita, KS 67209-2190; telephone and fax 405-666-1050; email troy.a.brown@faa.gov.

SUPPLEMENTARY INFORMATION:

Comments Invited

The FAA invites interested people to take part in this rulemaking by sending written comments, data, or views. The most helpful comments reference a specific portion of the special conditions, explain the reason for any recommended change, and include supporting data.

The FAA will consider all comments received by the closing date for comments. The FAA may change these special conditions based on the comments received.

Background

On September 16, 2019, Airbus applied for an amendment to Type Certificate No. A28NM to include the new Model A321neo XLR airplanes, which include the Model A321-271NY and A321-253NY airplanes. These airplanes are twin-engine, transport-category airplanes with seating for 244 passengers and a maximum takeoff weight of 222,000 pounds.

Type Certification Basis

Under the provisions of 14 CFR 21.101, Airbus must show that the Model A321neo XLR airplanes meet the applicable provisions of the regulations listed in Type Certificate No. A28NM, or the applicable regulations in effect on the date of application for the change, except for earlier amendments as agreed upon by the FAA.

If the Administrator finds that the applicable airworthiness regulations (e.g., 14 CFR part 25) do not contain adequate or appropriate safety standards for the Airbus Model A321neo XLR airplanes because of a novel or unusual design feature, special conditions are prescribed under the provisions of § 21.16.

Special conditions are initially applicable to the model for which they are issued. Should the type certificate for that model be amended later to include any other model that incorporates the same novel or unusual design feature, or should any other model already included on the same type certificate be modified to incorporate the same novel or unusual design feature, these special conditions would also apply to the other model under § 21.101.

In addition to the applicable airworthiness regulations and special conditions, the Airbus Model A321neo XLR airplanes must comply with the fuel-vent and exhaust-emission requirements of 14 CFR part 34, and the noise-certification requirements of 14 CFR part 36.

The FAA issues special conditions, as defined in § 11.19, in accordance with § 11.38, and they become part of the type certification basis under § 21.101.

Novel or Unusual Design Features

The Airbus Model A321neo XLR airplanes will incorporate the following novel or unusual design feature:

An electronic flight-control system that provides flight envelope protections.

Discussion

Many new transport-category airplanes use advanced electronic flight-control systems (EFCS), which incorporate flight-envelope protection (limiting) designed to prevent the pilot from inadvertently or intentionally exceeding any number of flight-envelope parameters. Depending on a particular EFCS design, these limiting features may or may not be active in all normal and alternate flight-control modes, and may or may not be capable of being overridden by the pilot.

The FAA currently applies 14 CFR 25.143 to airplanes incorporating EFCS. The purpose of § 25.143 is to verify that operational maneuvers conducted within the operational envelope can be accomplished smoothly with average piloting skill, and without encountering a stall warning or other characteristics that might interfere with normal maneuvering, or without exceeding structural limits. The airplane response to control input should be predictable to the pilot. However, § 25.143 does not adequately ensure that airplanes incorporating EFCS with flight-envelope protections will have a level of safety equivalent to that of existing standards.

Envelope-protection functions are intended to reduce the likelihood of excursions, either commanded or uncommanded, to unintended or potentially hazardous airplane operating states. As a consequence of preventing excursions, these functions can also restrict aircraft maneuverability, and may introduce non-traditional behavior. The proposed special conditions will ensure that flight-envelope protection functions support safe operation, and do not interfere with required maneuvering in normal and emergency operations, and in forseeable atmospheric conditions.

The FAA previously issued separate special conditions for general limiting, normal load-factor limiting, high-speed limiting, and pitch and roll limiting for airplanes incorporating flight-envelope protection features. However, the FAA tasked the Aviation Rulemaking Advisory Committee (ARAC) in April 2014 (79 FR 20295) to develop recommended standards for fly-by-wire flight controls for general flight-envelope protection (limiting) similar to those provided for conventional control functions in 14 CFR 25.143. The ARAC recommended,¹ among other things, performance-based requirements that would encompass general limiting, normal load-factor limiting, high-speed limiting, and pitch and roll limiting which the FAA previously issued as separate special conditions. These proposed special conditions are based on that ARAC recommendation.

¹ FAA Aviation Rulemaking Advisory Committee, FTHWG Topic 1 Envelope Protection, Recommendation Report-Rev. A, March, 2017, https://www.faa.gov/regulations_policies/rulemaking/committees/documents/media/09%20-%20FTHWG_Final_Report_Phase_2_RevA__Apr_2017.pdf.

These proposed special conditions provide the same level of safety as the prescriptive, design-specific special conditions the FAA has issued in the past for general limiting, normal load-factor limiting, high-speed limiting, and pitch and roll limiting, thus the FAA need not issue separate special conditions to address each of these areas.

These proposed special conditions are in addition to the requirements of § 25.143. These proposed special conditions contain the additional safety standards that the Administrator considers necessary to establish a level of safety equivalent to that established by the existing airworthiness standards.

Applicability

As discussed above, these proposed special conditions apply to Airbus Model A321neo XLR airplanes. Should Airbus apply later for a change to the type certificate to include another model incorporating the same novel or unusual design feature, the special conditions would apply to that model as well.

Conclusion

This action affects only certain novel or unusual design features on one model series of airplanes. It is not a rule of general applicability.

List of Subjects in 14 CFR Part 25

Aircraft, Aviation safety, Reporting and recordkeeping requirements.

Authority Citation

The authority citation for these special conditions is as follows:

Authority: 49 U.S.C. 106(f), 106(g), 40113, 44701, 44702, 44704.

The Proposed Special Conditions

Accordingly, the Federal Aviation Administration (FAA) proposes the following special conditions as part of the type certification basis for Airbus Model A321neo XLR airplanes equipped with EFCS.

In addition to § 25.143, the following requirements apply:

(a) Envelope protection functions must not unduly limit the maneuvering capability of the airplane, nor interfere with its ability to perform maneuvers required for normal and emergency operations.

(b) Onset characteristics of each flight-envelope protection function must be appropriate to the phase of flight and type of maneuver, and must not conflict with the ability of the pilot to satisfactorily control the airplane flight path, speed, and attitude.

(c) Excursions of a limited flight parameter beyond its nominal design-limit value due to dynamic maneuvering, airframe and system tolerances, and non-steady atmospheric conditions must not result in unsafe flight characteristics or conditions.

(d) Operation of flight-envelope protection functions must not adversely affect aircraft control during expected levels of atmospheric disturbances, nor impede the application of recovery procedures in case of wind shear.

(e) Simultaneous action of flight-envelope protection functions must not result in adverse coupling or adverse priority.

(f) In case of abnormal attitude or excursion of flight parameters outside the protected boundaries, operation of flight-envelope protection functions must not hinder airplane recovery.

Issued in Kansas City, Missouri, on November 8, 2022.
Patrick R. Mullen,
Manager, Technical Innovation Policy Branch, Policy and Innovation Division, Aircraft Certification Service.

[FR Doc. 2022-24772 Filed 11-16-22; 8:45 am]

BILLING CODE 4910-13-P